FEDERAL ELECTION COMMISSION

Sunshine Act Meeting

DATE & TIME: Thursday, January 27, 2000 at 10:00 a.m.

PLACE: 999 E Street, NW., Washington, DC (Ninth Floor)

STATUS: This meeting will be open to the public. The following item has been added to the agenda. Express Advocacy Rule (11 CFR 100.22).

PERSON TO CONTACT FOR INFORMATION: Ron Harris, Press Officer, Telephone (202) 694-1220.

Mary W. Dove,
Acting Secretary.

[FR Doc. 00-1759 Filed 1-21-00; 11:00 am]

BILLING CODE 6715-01-M